DEPARTMENT OF ENERGY

Federal Energy Regulatory Commission

[Docket No. EC01-92-000, et al.]

TransAlta USA Inc., et al.; Electric Rate and Corporate Regulation Filings

May 3, 2001.

Take notice that the following filings have been made with the Commission:

1. TransAlta USA Inc. and Gener S.A.

[Docket No. EC01-92-000]

Take notice that on April 26, 2001, TransAlta USA Inc. (TAUSA) and Gener S.A. (Gener) (collectively Applicants) tendered for filing, pursuant to Section 203 of the Federal Power Act, 16 U.S.C. 824b (1994), and Part 33 of the Commission's Regulations (18 CFR 33.1, et seq.), an Application for Commission approval for the sale by Gener, and the purchase by TAUSA, of fifty percent of the capital stock in Merchant Energy Group of the Americas, Inc. (MEGA), which owns certain jurisdictional rate schedules. Upon consummation of the proposed transaction, MEGA will be a wholly-owned subsidiary of TAUSA.

Comment date: May 17, 2001, in accordance with Standard Paragraph E at the end of this notice.

2. Arizona Public Service Company

Docket Nos. ER01-770-002 and ER01-917-002 (not consolidated)

Take notice that on April 30, 2001, Arizona Public Service Company (APS) tendered for filing an Amendment to the ANPP Valley Transmission System Participation Agreement between APS, Salt River Project Agricultural Improvement and Power District, Public Service Company of New Mexico, and El Paso Electric Company.

APS states that the Amendment to the ANPP Participation Agreement is being submitted in compliance with the Commission's separate Letter Orders, issued on February 28, 2001, in the above-captioned dockets.

Comment date: May 21, 2001, in accordance with Standard Paragraph E at the end of this notice.

3. PacifiCorp

[Docket No. ER01-1152-001]

Take notice that on April 30, 2001, PacifiCorp tendered for filing an amendment to its January 30, 2001 filing of a revised Exhibit C to the contract for Interconnections and Transmission Service between PacifiCorp and Western Area Power Administration (Western), Contract No. 14-06-400-2436, Supplement No. 2 (PacifiCorp's Rate Schedule FERC No. 262). The revisions modify the rates charged to Western for Block 2 transmission service.

PacifiCorp has requested an effective date of April 1, 2001.

Copies of this filing were supplied to the Washington Utilities and Transportation Commission and the Public Utility Commission of Oregon.

Comment date: May 21, 2001, in accordance with Standard Paragraph E at the end of this notice.

4. PJM Interconnection, L.L.C.

[Docket No. ER01-1889-000]

Take notice that on April 30, 2001, PJM Interconnection, L.L.C. (PJM), tendered for filing (i) an agreement for network integration transmission service with Allegheny Electric Cooperative (Allegheny); and (ii) an agreement for network integration transmission service for Easton Utilities Commission (Easton).

Copies of this filing were served upon Allegheny, Easton, and the state commissions within the PJM control area.

Comment date: May 21, 2001, in accordance with Standard Paragraph E at the end of this notice.

5. Dominion Nuclear Marketing II, Inc.

[Docket Nos. ER01-1890-000]

Take notice that on April 30, 2001, Dominion Nuclear Marketing II, Inc. (DNM II) tendered for filing service agreements providing for sales of power to Duke Energy Trading and Marketing, L.L.C. (DETM) and Constellation Power Source, Inc. (Constellation) (collectively, the Customers) under DNM II's market-based rate sales tariff, FERC Electric Tariff, Original Volume No. 1 (the Tariff). DNM II requests that the Commission make the service agreements for DETM and Constellation effective on April 1, 2001.

Copies of the filing were served upon the Customers, the Virginia State Corporation Commission and the North Carolina Utilities Commission.

Comment date: May 21, 2001, in accordance with Standard Paragraph E at the end of this notice.

6. New England Power Pool

[Docket No. ER01-1891-000]

Take notice that on April 30, 2001, the New England Power Pool (NEPOOL) tendered for filing changes to the New England Power Pool Restated Open Access Transmission Tariff, a related Implementation Rule and a Market Rule to make conforming changes for the implementation of three-part bidding and Net Commitment Period Compensation. A July 1, 2001 effective date is requested.

NEPOOL states that copies of these materials were sent to the NEPOOL Participants and the six New England state governors and regulatory commissions.

Comment date: May 21, 2001, in accordance with Standard Paragraph E at the end of this notice.

7. Michigan Electric Transmission Company and Consumers Energy Company

[Docket No. ER01-1892-000]

Take notice that on April 30, 2001, Consumers Energy Company (Consumers) tendered for filing a Notice of Cancellation regarding former OATT customers whose transmission service agreements terminated by their own terms, effective December 31, 2000; and Michigan Electric Transmission Company (Michigan Transco) tendered for filing five revised tariff sheets for its Open Access Transmission Tariff, Michigan Transco Electric Tariff FERC No. 1, with a proposed effective date of April 1, 2001. The tariff sheets are to reflect changes in the Indices of Customers related to Consumers' Notice of Cancellation and to correct certain typographical errors. The revised sheets that were filed are First Revised Sheet Nos. 69, 106, 116, 170 and 171.

The filing was served upon the Michigan Public Service Commission, those listed in the Notice of Cancellation, and customers under Michigan Transco's OATT.

Comment date: May 21, 2001, in accordance with Standard Paragraph E at the end of this notice.

8. Jersey Central Power & Light Company; Metropolitan Edison Company; Pennsylvania Electric Company

[Docket No. ER01-1893-000]

Take notice that on April 27, 2001, Jersey Central Power & Light Company, Metropolitan Edison Company and Pennsylvania Electric Company (individually doing business as GPU Energy) tendered for filing a Notice of Cancellation of the Service Agreement between GPU Service Corporation and Global Petroleum Corporation (now Global Companies LLC), FERC Electric Tariff, Original Volume No. 1, Service Agreement No. 36. GPU Energy requests that cancellation be effective the 27th day of June 2001.

Comment date: May 18, 2001, in accordance with Standard Paragraph E at the end of this notice.

9. Niagara Mohawk Power Corporation

[Docket No. ER01-1894-000]

Take notice that on April 30, 2001, Niagara Mohawk Power Corporation (Niagara Mohawk) tendered for filing an Interconnection Agreement between Niagara Mohawk Power Corporation and Athens Generating Company, L.P. for a 1230 MW (winter rating) natural gas-fired combined cycle combustion turbine generating facility that is to be constructed in the Town of Athens, Greene County, New York, dated as of April 27, 2001. The filing is designated as FERC Electric Rate Schedule No. 307.

An Interconnection Agreement effective date of May 15, 2001 is requested and to the extent necessary, Niagara Mohawk requests waiver of any Commission requirement that a rate schedule be filed not less than 60 days or more than 120 days from its effective date.

Comment date: May 21, 2001, in accordance with Standard Paragraph E at the end of this notice.

10. Tampa Electric Company

[Docket No. ER01-1896-000]

Take notice that on April 27, 2001, Tampa Electric Company (Tampa Electric) tendered for filing updated transmission service rates under its agreements to provide qualifying facility transmission service for Mulberry Phosphates, Inc. (Mulberry), Cargill Fertilizer, Inc. (Cargill), and Auburndale Power Partners, Limited Partnership (Auburndale).

Tampa Electric proposes that the updated transmission service rates be made effective as of May 1, 2001, and therefore requests waiver of the Commission's notice requirement.

Copies of the filing have been served on Mulberry, Cargill, Auburndale, and the Florida Public Service Commission.

Comment date: May 18, 2001, in accordance with Standard Paragraph E at the end of this notice.

11. EOPT Power Group Nevada, Inc.

[Docket No. ER01-1897-000]

Take notice that on April 26, 2001, EOPT Power Group Nevada, Inc. tendered for filing for acceptance of its Rate Schedule FERC No. 1, the granting of certain blanket approvals, including the authority to sell electricity at market-based rates, and the waiver of certain of the Commission's Regulations.

Comment date: May 17, 2001, in accordance with Standard Paragraph E at the end of this notice.

12. Tampa Electric Company

[Docket No. ER01-1898-000]

Take notice that on April 27, 2001, Tampa Electric Company (Tampa Electric) tendered for filing updated caps on energy charges for emergency assistance service provided under its interchange service contract with Alabama Power Company, Georgia Power Company, Gulf Power Company, Mississippi Power Company, and Savannah Electric and Power Company (collectively, Southern Companies).

Tampa Electric requests that the updated caps on charges be made effective as of May 1, 2001, and therefore requests waiver of the Commission's notice requirement.

Tampa Electric states that a copy of the filing has been served upon Southern Companies and the Florida Public Service Commission.

Comment date: May 18, 2001, in accordance with Standard Paragraph E at the end of this notice.

13. Zapco Power Marketers, Inc.

[Docket No. ER01-1899-000]

Take notice that on April 26, 2001, Zapco Power Marketers, Inc. tendered for filing a Notice of Termination.

Notice is hereby given that effective April 12, 2001 Rate Schedule FERC No. ER98-689-000 effective date December 29, 1997 and filed with the Commission is to be canceled because Zapco has been inactive since it filed with the Commission and has been dissolved as of April 12, 2001.

Notice of the proposed cancellation has not been served upon any public utilities since there are no affected purchasers.

Comment date: May 17, 2001, in accordance with Standard Paragraph E at the end of this notice.

14. American Electric Power Service Corporation

[Docket No. ER01-1900-000]

Take notice that on April 30, 2001, the American Electric Power Service Corporation (AEPSC) tendered for filing executed Interconnection and Operation Agreement between Columbus Southern Power Company and Duke Energy Franklin LLC. The agreement is pursuant to the AEP Companies' Open Access Transmission Service Tariff (OATT) that has been designated as the Operating Companies of the American Electric Power System FERC Electric Tariff Revised Volume No. 6, effective June 15, 2000.

AEP requests an effective date of June 25, 2001.

A copy of the filing was served upon the Ohio Public Utilities Commission.

Comment date: May 21, 2001, in accordance with Standard Paragraph E at the end of this notice.

15. Deseret Generation & Transmission Co-operative, Inc.

[Docket No. ER01-1901-000]

Take notice that on April 30, 2001, Deseret Generation & Transmission Co-operative, Inc. (Deseret) tendered for filing an amendment to Rate Schedule No. 13, a Contract for Interconnections and Transmission Service Between Deseret and the United States Department of Energy, Western Area Power Administration, Contract No. 2-07-40-P0716, dated November 10, 1982.

Deseret requests an effective date of April 1, 2001. Copies of this filing have been served on the Western Area Power Administration.

Comment date: May 21, 2001, in accordance with Standard Paragraph E at the end of this notice.

16. Southern Company Services, Inc.

[Docket No. ER01-1902-000]

Take notice that on April 27, 2001, Southern Company Services, Inc., as agent for Georgia Power Company (Georgia Power), tendered for filing the Interconnection Agreement between Georgia Power and Augusta Energy LLC (Augusta Energy) (the Agreement), as a service agreement under Southern Operating Companies' Open Access Transmission Tariff (FERC Electric Tariff, Fourth Revised Volume No. 5) and is designated as Service Agreement No. 376.

The Agreement provides the general terms and conditions for the interconnection and parallel operation of Augusta Energy's electric generating facility located near Augusta, Richmond County, Georgia. The Agreement terminates forty (40) years from the effective date unless terminated earlier by mutual written agreement.

Comment date: May 18, 2001, in accordance with Standard Paragraph E at the end of this notice.

17. American Electric Power Service Corporation

[Docket No. ER01-1903-000]

Take notice that on April 30, 2001, the American Electric Power Service Corporation (AEPSC) tendered for filing executed Interconnection Agreements between (1) West Texas Utilities Company and Indian Mesa Power Partners I LP and (2) West Texas Utilities Company and Indian Mesa Power Partners II LP. The agreements are pursuant to the AEP Companies' Open Access Transmission Service Tariff (OATT) that has been designated as the Operating Companies of the American Electric Power System FERC Electric Tariff Revised Volume No. 6, effective June 15, 2000.

AEPSC requests an effective date of June 26, 2001 for each of the Interconnection Agreements. A copy of the filing was served upon the Public Utility Commission of Texas (PUCT).

Comment date: May 21, 2001, in accordance with Standard Paragraph E at the end of this notice.

18. Virginia Electric and Power Company

[Docket No. ER01-1904-000]

Take notice that on April 27, 2001, Virginia Electric and Power Company (Dominion Virginia Power or the Company) tendered for filing the following:

1. Service Agreement for Firm Point-to-Point Transmission Service by Virginia Electric and Power Company to Axia Energy, LP designated as Service Agreement No. 318 under the Company's FERC Electric Tariff, Second Revised Volume No. 5;

2. Service Agreement for Non-Firm Point-to-Point Transmission Service by Virginia Electric and Power Company to Axia Energy, LP designated as Service Agreement No. 319 under the Company's FERC Electric Tariff, Second Revised Volume No. 5.

The foregoing Service Agreements are tendered for filing under the Open Access Transmission Tariff to Eligible Purchasers effective June 7, 2000. Under the tendered Service Agreements, Dominion Virginia Power will provide point-to-point service to Axia Energy, LP under the rates, terms and conditions of the Open Access Transmission Tariff. Dominion Virginia Power requests an effective date of April 27, 2001, the date of filing of the Service Agreements.

Copies of the filing were served upon Axia Energy, LP, the Virginia State Corporation Commission, and the North Carolina Utilities Commission.

Comment date: May 18, 2001, in accordance with Standard Paragraph E at the end of this notice.

19. Pacific Gas and Electric Company

[Docket No. ER01-1905-000]

Take notice that on April 27, 2001, Pacific Gas and Electric Company (PG&E) tendered for filing a Notice of Termination of the Power Plant Operations Agreement between Pacific Gas and Electric Company and Central California Power Agency No. 1 for the Coldwater Creek Geothermal Power Plant, PG&E Rate Schedule FERC No. 119.

Copies of this filing have been served upon Central California Power Agency No. 1, the California System Operator Corporation (ISO) and the California Public Utilities Commission.

PG&E has requested certain waivers.

Comment date: May 18, 2001, in accordance with Standard Paragraph E at the end of this notice.

20. UtiliCorp United Inc.

[Docket No. ER01-1906-000]

Take notice that on April 27, 2001, UtiliCorp United Inc. (UtiliCorp) tendered for filing Service Agreement No. 103 under UtiliCorp's FERC Electric Tariff, Third Revised Volume No. 25, a short-term firm point-to-point transmission service agreement between UtiliCorp's WestPlains Energy-Kansas division and Service Agreement No. 108 under UtiliCorp's FERC Electric Tariff, Third Revised Volume No. 24 and Axia Energy, L.P.

UtiliCorp requests an effective date for the service agreement of April 12, 2001.

Comment date: May 18, 2001, in accordance with Standard Paragraph E at the end of this notice.

21. Ameren Services

[Docket No. ER01-1907-000]

Take notice that on April 27, 2001, Ameren Services Company (ASC) tendered for filing an Illinois Retail Network Integration Transmission Service Agreement and Illinois Retail Network Operating Agreement between ASC and Edgar Electric Cooperative Association d/b/a EnerStar Power Corp. ASC asserts that the purpose of the Agreement is to permit ASC to provide transmission service to unbundled Illinois retail customers of EnerStar Power Corp. pursuant to Ameren's Open Access Tariff.

Comment date: May 18, 2001, in accordance with Standard Paragraph E at the end of this notice.

22. Upper Peninsula Power Company

[Docket No. ER01-1908-000]

Take notice that on April 27, 2001, Upper Peninsula Power Company (UPPCO) tendered for filing a Supplement to Agreement for Wholesale Electric Power Service between UPPCO and the City of Escanaba, Michigan (Escanaba) (UPPCO Rate Schedule FERC No. 26). UPPCO states that the Supplement reduces the amount of firm power that it is obligated to provide to Escanaba during the Summer of 2001.

Comment date: May 18, 2001, in accordance with Standard Paragraph E at the end of this notice.

23. Tucson Electric Power Company

[Docket No. ER01-1909-000]

Take notice that on April 27, 2001, Tucson Electric Power Company tendered for filing one (1) Umbrella Service Agreement (for Short-Term Firm Service) and one (1) Service Agreement (for Non-Firm Service) pursuant to Part II of Tucson's Open Access Transmission Tariff, which was filed in Docket No. ER01-208-000.

The details of the service agreements are as follows:

1. Umbrella Agreement for Short-Term Firm Point-to-Point Transmission Service dated as of April 9, 2001 by and between Tucson Electric Power Company and Salt River Project, Transmission & Generation Dispatching—FERC Electric Tariff Vol. No. 2, Service Agreement No. 166-A. No service has commenced at this time.

2. Form of Service Agreement for Non-Firm Point-to Point Transmission Service dated as of April 9, 2001 by and between Tucson Electric Power Company and Salt River Project, Transmission & Generation Dispatching—FERC Electric Tariff Vol. No. 2, Service Agreement No. 167. No service has commenced at this time.

Comment date: May 18, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-11768 Filed 5-9-01; 8:45 am]

BILLING CODE 6717-01-P